FEDERAL COMMUNICATIONS COMMISSION

Notice of Public Information Collection(s) Being Submitted for Review and Approval to the Office of Management and Budget (OMB), Comments Requested

January 6, 2011.

SUMMARY: As part of its continuing effort to reduce paperwork burden and as required by the Paperwork Reduction Act (PRA) of 1995 (44 U.S.C. 3501-3520), the Federal Communications Commission invites the general public and other Federal agencies to comment on the following information collection. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before February 14, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov.). Include in the e-mail the OMB control number of the collection as shown in the SUPPLEMENTARY INFORMATION section below, or if there is no OMB control number, include the Title as shown in the Supplementary Information section. If you are unable to submit your comments by e-mail, contact he person listed below to make alternate arrangements.

FOR FURTHER INFORMATION CONTACT: For additional information, contact Judith B. Herman at 202-418-0214 or via the Internet at Judith-b.herman@fcc.gov.

SUPPLEMENTARY INFORMATION: OMB Control Number: 3060-1094.

Title: Sections 27.14 and 27.1221, Licensing, Operation and Transition of the 2500-2690 MHz Band.

Form No.: N/A.

Type of Review: Revision of a currently approved collection.

Respondents: Business or other for-profit, not-for-profit institutions, and state, local or tribal government.

Number of Respondents: 2,500 respondents; 5,140 responses.

Estimated Time per Response: .50 hours-2.25 hours.

Frequency of Response: On occasion and one time reporting requirements, third party disclosure requirement and recordkeeping requirement.

Obligation to Respond: Required to obtain or retain benefits. Statutory authority for this information collection is contained in 47 U.S.C. sections 151, 154(i), 301, 303(f), 303(g), 303(r), 307, 308 and 316.

Total Annual Burden: 3,510 hours.

Total Annual Cost: $302,667.

Privacy Act Impact Assessment: N/A.

Nature and Extent of Confidentiality: There is no need for confidentiality. Respondents or applicants may request materials or information submitted to the Commission be withheld from public inspection under 47 CFR 0.459 of the Commission's rules.

Needs and Uses: The Commission will submit this information collection (IC) to the OMB during this comment period as a revision. The Commission is seeking OMB approval because the FCC adopted and released a Fourth Memorandum Opinion and Order, (2008 Order), FCC 08-83, which adopted section 27.14(o) of the Commission's rules. That rule requires all Broadband Radio Service (BRS) and Educational Broadband Service (EBS) licensees to make a showing of “substantial service” no later than May 1, 2011 on a license-by-license basis. This requirement was modified by the Third Report and Order (2010 Order), FCC 10-107, to require that licensees issued a new BRS license on or After November 6, 2009, would have four years from the date of initial license grant to provide substantial service. A licensee must demonstrate that it provided service which is sound, favorable, and substantially above a level of mediocre service which might minimally warrant renewal.

The Commission has changed it's burden estimates for this information collection. The Commission has recalculated (adjusted) the burden hours because the number of respondents/responses has been reduced by 4,947 hours. This is due to fewer respondents since this was last submitted to OMB. The transition to the new band plan is largely complete and most of the transition-related requirements contained in this collection are no longer necessary. The program change increase in annual costs is due to approximately two-third of respondents will contract out to an outside source to prepare the “substantial showing” requirement.

Federal Communications Commission.
Marlene H. Dortch,
Secretary.

[FR Doc. 2011-566 Filed 1-12-11; 8:45 am]

BILLING CODE 6712-01-P